SMALL BUSINESS ADMINISTRATION

National Environmental Policy Act Procedures

AGENCY: U.S. Small Business Administration (SBA).

ACTION: Notice of proposed change in procedures; notice of extension of comment period.

SUMMARY: SBA published a Notice of a proposed change in procedures on August 6, 2004 seeking comments on its proposed revisions to its procedures implementing the National Environmental Policy Act (NEPA) specifically relating to loans made under its business loan assistance programs, as well as seeking comments on a proposed assessment of the effects of the Agency's 7(a) business loan program and 504 certified development company program upon the environment. The comment period closes on October 5, 2004. Due to a request from the public for an extension of time for comments and SBA's desire to have a meaningful dialogue on these issues, SBA is extending the time period for comments through December 15, 2004.

DATES: The comment period for the Notice of proposed change in procedures published August 6, 2004 (69 FR 47971) is extended through December 15, 2004.

ADDRESSES: You may submit comments, identified by a reference to “NEPA Procedures Public Comments,” by any of the following methods: Through the Federal eRulemaking portal at http://www.regulations.gov; by mail to Eric S. Benderson, Associate General Counsel, Office of General Counsel, 7th Floor, U.S. Small Business Administration, 409 Third Street, SW., Washington, DC 20416; by e-mail (include reference to “NEPA Procedures Public Comments” in the subject line) to eric.benderson@sba.gov; or via facsimile to (202) 205-7154.

FOR FURTHER INFORMATION CONTACT: Eric S. Benderson, Associate General Counsel (202) 205-6636; eric.benderson@sba.gov.

Dated: September 28, 2004.
Ronald E. Bew,
Associate Deputy Administrator.

[FR Doc. 04-22187 Filed 10-1-04; 8:45 am]

BILLING CODE 8025-01-P